NATIONAL ARCHIVES AND RECORDS ADMINISTRATION

[NARA-26-0100; NARA-2026-010]

Records Schedules; Administrative Correction Notice

AGENCY: National Archives and Records Administration (NARA).

ACTION: Notice of administrative correction to a records schedule.

SUMMARY: We are making the following administrative correction to DAA-0048-2013-0008 of the Department of the Interior's departmental records schedule, to add previously missed temporary superseded authorities to open-aggregate items approved for temporary disposition. An administrative correction addresses errors or oversights to temporary items in an approved records schedule.

DATES: We must receive responses on the schedules listed in this notice by April 13, 2026.

ADDRESSES: You can find the records schedule subject to this proposed administrative correction on the Records Control Schedule page at https://www.archives.gov/files/records-mgmt/rcs/schedules/departments/department-of-the-interior/rg-0048/daa-0048-2013-0008_sf115.pdf.

You may submit comments by the following method:

Federal eRulemaking Portal: https://www.regulations.gov. On the website, enter either of the numbers cited at the top of this notice into the search field. This will bring you to the docket for this notice which has a `comment' button to submit a comment. For more information on regulations.gov and on submitting comments, see their FAQs at https://www.regulations.gov/faq.

If you are unable to comment via regulations.gov, you may email us at request.schedule@nara.gov for instructions on submitting your comment. You must cite the control number of the schedule you wish to comment on.

FOR FURTHER INFORMATION CONTACT: Matthew Eidson, Records Management Operations, by email at matthew.eidson@nara.gov or at 301-837-3109. For information about records schedules, contact Records Management Operations by email at request.schedule@nara.gov or by phone at 301-837-3109.

SUPPLEMENTARY INFORMATION: An administrative correction is a change to a temporary item on an approved record schedule to address errors or oversights when the records were originally scheduled. This notice applies only to the change described, and not to other portions of the schedule. We invite public comments on this administrative correction, as required by 44 U.S.C. 3303a(a). The submitting agency cannot implement the administrative correction until the comment period ends and NARA approves the change.

Read the proposed administrative correction in conjunction with the previously approved DAA-0048-2013-0008, Items 0001 & 0002, Department of the Interior, Department Wide, Policy Records.

Proposed Change

We are making an administrative correction to add a series to two open aggregate items. This update incorporates five series from RG 57 (USGS—The United States Geological Survey). These five temporary authorities are being added as superseded items under approved open aggregate items with shorter retentions. The superseded schedules include:

1. N1-057-08-01/101-02 (Temporary) Agency Management Plans, Surveys, Studies, Strategies, and Initiatives, Proposed for item 0001.

2. N1-057-08-02/505-10/b (Temporary) Visual Identity System Design Specifications, Proposed for item 0001.

3. N1-057-02-04/904-04 (Temporary) Safety Policies, Proposed for item 0001.

4. N1-057-02-04/903-02/b (Temporary) Security Clearance and Access Authorization Administrative Policy Subject Files: Files documenting the development of access policy and policy studies, Proposed for item 0002.

5. N1-057-02-04/903-02/c (Temporary) Security Clearance and Access Authorization Administrative Policy Subject Files: Procedures for implementation of policy and guides, Proposed for item 0002.

This correction and reduced retention period meets the business needs of the agency and is necessary to align the management of these records with the Department's standard practices to ensure consistency across all bureaus.

William P. Fischer,
Acting Chief Records Officer for the U.S. Government.

[FR Doc. 2026-03830 Filed 2-25-26; 8:45 am]

BILLING CODE 7515-01-P